DEPARTMENT OF THE INTERIOR

Bureau of Land Management

[CO-200-0777-XZ-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meetings will be held January 25, 2007 and March 21, 2007. Both meetings will be from 9:15 a.m. to 4 p.m.

ADDRESSES: Holy Cross Abbey Community Center, 2951 E. Highway 50, Canon City, Colorado 81212.

FOR FURTHER INFORMATION CONTACT: Ken Smith, (719) 269-8500.

SUPPLEMENTARY INFORMATION: The 15 member Council advises the Secretary of the Interior, through the Bureau of Land Management, on a variety of planning and management issues associated with public land management in the Royal Gorge Field Office and San Luis Valley, Colorado. Planned agenda topics for the January 25, 2007 meeting will include: Manager updates on current land management issues; the draft Colorado Recreation Strategy Communication Plan; the South Park Plan Amendment; travel management planning and the Rio Grande Natural Area. Planned agenda topics for the March 21, 2007 meeting will include: Manager updates on current land management issues; biomass utilization and travel management planning. All meetings are open to the public. The public is encouraged to make oral comments to the Council at 9:30 a.m. or written statements may be submitted for the Council's consideration. Depending on the number of persons wishing to comment and time available, the time for individual oral comments may be limited. Summary minutes for the Council Meeting will be maintained in the Royal Gorge Field Office and will be available for public inspection and reproduction during regular business hours within thirty (30) days following the meeting. Meeting Minutes and agenda are also available (10 days prior to each meeting) at: http://www.blm.gov/rac/co/frrac/co_fr.htm.

Dated: December 13, 2006.
Roy L. Masinton,
Royal Gorge Field Manager.

[FR Doc. E6-21713 Filed 12-19-06; 8:45 am]

BILLING CODE 4310-JB-P